NUCLEAR REGULATORY COMMISSION

Revision 9 of NUREG-1021, “Operator Licensing Examination Standards for Power Reactors;” Notice of Availability

AGENCY: Nuclear Regulatory Commission.

ACTION: Notice of availability.

SUMMARY: The Nuclear Regulatory Commission (NRC) has issued Revision 9 of NUREG-1021, “Operator Licensing Examination Standards for Power Reactors,” which provides policy and guidance for the development, administration, and grading of written examinations and operating tests used to determine the qualifications of individuals who apply for reactor operator (RO) and senior reactor operator (SRO) licenses at nuclear power plants pursuant to the Commission's regulations in 10 CFR part 55, “Operators’ Licenses.” NUREG-1021 also provides guidance for verifying the continued qualifications of licensed operators when the staff determines that NRC requalification examinations are necessary.

NUREG-1021 has been revised to implement a number of clarifications and enhancements that have been identified since Revision 8, Supplement 1, was published in April 2001. A draft of Revision 9 was issued for comment and voluntary trial use on February 3, 2003 (68 FR 5312), and seven responses were received during the comment period, which closed on December 31, 2003. The public comments and recommendations, as well as others that were provided by the NRC regional offices and staff, are available for review via the NRC's Public Electronic Reading Room (http://www.nrc.gov/reading-rm/adams.html) and in the NRC's Public Document Room located at 11555 Rockville Pike, Rockville, Maryland; the Accession Number for the comment summary is ML041240004.

Revision 9 includes a number of changes that the NRC staff believes will maintain operational safety and public confidence, while reducing the regulatory burden on facility licensees and improving efficiency: notably, the RO written examination has been shortened from 100 to 75 questions, the design of the 100-question SRO written examination has been clarified and simplified, the administrative and systems portions of the walk-through operating test have been combined and reapportioned, and the grading criteria for the simulator operating test have been clarified to enhance consistency. A number of additional changes have been made to address questions raised since Revision 8, Supplement 1, was issued and to conform with other regulatory activities. The changes in Revision 9 are outlined in the Executive Summary, and the new or revised text is identified with vertical lines in the margins.

Revision 9 will become effective for operator licensing examinations that are administered 180 or more days after the date of this notice, or at an earlier date agreed upon by the facility licensee and its NRC Regional Office. After the effective date, facility licensees that elect to prepare their examinations will be expected do so based on the guidance in Revision 9 of NUREG-1021, unless the NRC has reviewed and approved the facility licensee's alternative examination procedures.

Copies of Revision 9 are being mailed to the plant or site manager at each nuclear power facility regulated by the NRC. A copy is available for inspection and/or copying for a fee in the NRC's Public Document Room, located at 11555 Rockville Pike, Rockville, Maryland. NUREG-1021 is also available for downloading from the NRC's Web site (http://www.nrc.gov/reading-rm/doc-collections/nuregs/staff/sr1021/). If you do not have electronic access to NRC documents, you may request a single copy of Revision 9 by writing to the Office of the Chief Information Officer, Reproduction and Distribution Services Section, U.S. Nuclear Regulatory Commission, Washington, DC 20555-0001 (facsimile: 301-512-2289). Telephone requests cannot be accommodated. NUREG documents are not copyrighted, and Commission approval is not required to reproduce them.

Dated at Rockville, Maryland, this 18th day of August 2004.
For the Nuclear Regulatory Commission.
David C. Trimble,
Chief, Operator Licensing and Human Performance Section, Reactor Operations Branch, Division of Inspection Program Management, Office of Nuclear Reactor Regulation.

[FR Doc. 04-19403 Filed 8-24-04; 8:45 am]

BILLING CODE 7590-01-P